DEPARTMENT OF HEALTH AND HUMAN SERVICES

National Institute of Environmental Health Sciences (NIEHS); Request for Public Comments on the Review of the Centers for Children's Environmental Health and Disease Prevention Program

AGENCY: National Institutes of Health (NIH), Department of Health and Human Services.

ACTION: Request for comments.

SUMMARY: As part of an effort to evaluate the NIEHS research portfolio of investigator-initiated research on children's environmental health, the NIEHS convened an independent panel to review the Centers for Children's Environmental Health and Disease Prevention Program (“Children's Centers”) in cooperation with the U.S. Environmental Protection Agency (EPA). The panel was convened as a working group to the NIEHS National Advisory Environmental Health Sciences Council (NAEHS). At this time, the NIEHS seeks public comment on the working group report for consideration by the NAEHS Council, the NIEHS, and EPA's Office of Research and Development (ORD) in evaluating the best approaches for future funding of children's environmental health research. The report is available at http://www.niehs.nih.gov/conferences/od/cehr/report.htm.

DATES: Please submit comments on or before May 15, 2007.

ADDRESSES: Comments should be submitted to Dr. Kristina Thayer (NIEHS, P.O. Box 12233, MD B2-08, Research Triangle Park, NC 27709; telephone: 919-541-5021 or e-mail: thayer@niehs.nih.gov).

SUPPLEMENTARY INFORMATION:

Background Information

Over the past 30 years, the NIEHS has invested millions of dollars in children's environmental health research. In order to maximize the effectiveness of current and future investments of human and financial resources, the Institute is conducting a review of the children's environmental health programs. For the past eight years, the Institute has partnered with the EPA to support thirteen research centers devoted to children's environmental health and disease prevention. The Children's Centers draws upon the resources of community partners and the expertise of top universities and medical centers to focus on the important role that environmental toxicants play in the development of asthma, autism, and other childhood illnesses. The Children's Centers are a prominent component of the research portfolio in children's environmental health at both the NIEHS and EPA. As such, the NIEHS and EPA believe it is necessary to evaluate the program's effectiveness as a mechanism to stimulate research in children's environmental health. In addition, it is important to determine whether other approaches should be considered to advance children's environmental health research and education. Supporting research that shows the greatest promise for rapidly identifying links between environmental exposures and childhood disorders and disease is a primary focus.

Request for Comment

At this time, the NIEHS seeks public comment on the working group report. The comments will be distributed to ORD and the NAEHS Council prior to discussion of the working group report at a public meeting on May 30-31, 2007. Comments or additional information may be submitted at any time; however, to ensure adequate time for consideration prior to the May 30-31, 2007 meeting, comments should be submitted by May 15, 2007. The NIEHS and the EPA will not respond to submitted comments; however, all comments will be considered by the NAEHS Council, NIEHS and the EPA in evaluating the best approaches for future funding of children's environmental health research. Persons submitting comments should include their name, affiliation (if relevant), and sponsoring organization (if any) with the submission. Written submissions will be made publicly available on the NIEHS Web site as they are received (http://www.niehs.nih.gov/conferences/od/cehr/report.htm).

Dated: April 5, 2007.
Samuel H. Wilson,
Deputy Director, National Institute of Environmental Health Sciences and National Toxicology Program.

[FR Doc. E7-7107 Filed 4-13-07; 8:45 am]

BILLING CODE 4140-01-P